DEPARTMENT OF THE TREASURY

Internal Revenue Service

31 CFR Part 1

Privacy Act of 1974, Proposed Implementation

AGENCY: Internal Revenue Service, Treasury.

ACTION: Proposed rule.

SUMMARY: In accordance with the requirements of the Privacy Act of 1974, 5 U.S.C. 552a, as amended, the Department of the Treasury gives notice of a proposed amendment to this part to exempt Internal Revenue Service (IRS) system of records, Treasury/IRS 34.022—National Background Investigation Center Management Information System.

DATES: Comments must be received no later than December 28, 2005.

ADDRESSES: Comments should be submitted to Governmental Liaison and Disclosure, 1111 Constitution Avenue NW., Washington, DC 20224, attention: David Silverman, room 7562. Comments may also be submitted through the Federal rulemaking portal at http://www.regulations.gov (follow the instructions for submitting comments). Comments will be made available for inspection at the IRS Freedom of Information Reading Room, also located at 1111 Constitution Avenue, NW. The telephone number for the Reading Room is (202) 622-5164 (this is not a toll free number).

FOR FURTHER INFORMATION CONTACT: Mary Anderson, Program Analyst, (703) 647-5477 (this is not a toll free number).

SUPPLEMENTARY INFORMATION: Currently, Treasury/IRS 34.022 is exempt under (j)(2) of the Privacy Act. After careful review, the Internal Revenue Service proposes an amendment to change the basis for the exemption claimed for the system of records from that which is provided under 5 U.S.C. 552a(j)(2) to that which is provided under 5 U.S.C. 552a(k)(5).

The (k)(5) exemption is more appropriate because the investigatory material contained in this system of records is collected and maintained solely for the purpose of determining suitability, eligibility, or qualifications for Federal civilian employment, military service, Federal contracts, or access to classified information.

Under 5 U.S.C. 552a(k)(5), the head of any agency may promulgate rules to exempt any system of records within the agency from certain provisions of the Privacy Act of 1974 if the system is investigatory material compiled solely for the purpose of determining suitability, eligibility, or qualifications for Federal civilian employment, military service, Federal contracts, or access to classified information, but only to the extent that the disclosure of such material would reveal the identity of a source who furnished information to the Government under an express promise that the identity of the source would be held in confidence, or, prior to September 27, 1975, under an implied promise that the identity of the source would be held in confidence. Thus to the extent that the records in this system can be disclosed without revealing the identity of a confidential source, they are not within the scope of this exemption and are subject to all the requirements of the Privacy Act.

The system of records will be exempt from the following provisions of the Privacy Act pursuant to 5 U.S.C. 552a (k)(5): 5 U.S.C. 552a (c)(3), (d)(1), (d)(2), (d)(3), (d)(4), (e)(1), (e)(4)(G), (e)(4)(H), (e)(4)(I), and (f).

The sections of 5 U.S.C. 552a from which the system of records is exempt include in general those providing for individuals' access to or amendment of records. When such access or amendment would cause the identity of a confidential source to be revealed, it would impair the future ability of the Department to compile investigatory material for the purpose of determining suitability, eligibility, or qualifications for Federal civilian employment, Federal contracts, or access to classified information. In addition, the system should be exempt from 5 U.S.C. 552a(e)(1) which requires that an agency maintain in its records only such information about an individual as is relevant and necessary to accomplish a purpose of the agency required to be accomplished by statute or executive order. The Department believes that to fulfill the requirements of 5 U.S.C. 552a(e)(1) would unduly restrict the agency in its information gathering inasmuch as it is often not until well after the investigation that it is possible to determine the relevance and necessity of particular information.

In a notice, to be published separately in the Federal Register, the Department proposes to revise Treasury/IRS 34.022. The purpose of the notice is to make certain alterations to the notice including changing the title from “Treasury/IRS 34.022—National Background Investigations Center Management Information System” to “Treasury/IRS 34.022—Automated Background Investigations System (ABIS).”

As required by Executive Order 12866, it has been determined that this proposed rule is not a significant regulatory action, and therefore, does not require a regulatory impact analysis.

The regulation will not have a substantial direct effect on the States, on the relationship between the Federal Government and the States, or on the distribution of power and responsibilities among the various levels of government. Therefore, it is determined that this Proposed rule does not have federalism implications under Executive Order 13132.

Pursuant to the requirements of the Regulatory Flexibility Act, 5 U.S.C. 601-612, it is hereby certified that these regulations will not significantly affect a substantial number of small entities. The proposed rule imposes no duties or obligations on small entities.

In accordance with the provisions of the Paperwork Reduction Act of 1995, the Department of the Treasury has determined that this proposed rule would not impose new record keeping, application, reporting, or other types of information collection requirements.

List of Subjects in 31 CFR Part 1

Privacy.

Part 1 subpart C of Title 31 of the Code of Federal Regulations is proposed to be amended as follows:

PART 1—[AMENDED]

1. The authority citation for part 1 continues to read as follows:

Authority: 5 U.S.C. 301, 31 U.S.C. 321, subpart A also issued under 5 U.S.C. 552, as amended. Subpart C also issued under 5 U.S.C. 552a.

2. Section 1.36 of subpart C is amended as follows:

a. Paragraph (c)(1)(viii) is amended by removing “IRS 34.022—National Background Investigations Center Management Information System” from the table.

b. Paragraph (m)(1)(viii) is amended by adding the following text to the table in numerical order:

§ 1.36 Systems exempt in whole or in part from provisions of 5 U.S.C. 522a and this part.

* * * * *

(m) * * *

(1) * * *

(viii) * * *

Number | Name of system
* * * * *
IRS 34.022 | Automated Background Investigations System (ABIS)
* * * * *

* * * * *

Dated: October 3, 2005.
Sandra L. Pack,
Assistant Secretary for Management and Chief Financial Officer.

[FR Doc. E5-6577 Filed 11-25-05; 8:45 am]

BILLING CODE 4830-01-P